DEPARTMENT OF TRANSPORTATION

National Highway Traffic Safety Administration

[Docket No. NHTSA-2022-0016]

Agency Information Collection Activities; Notice and Request for Comment; Consumer Complaint Information

AGENCY: National Highway Traffic Safety Administration (NHTSA), Department of Transportation (DOT).

ACTION: Notice and request for comments on a reinstatement of a previously approved collection of information.

SUMMARY: The National Highway Traffic Safety Administration (NHTSA) invites public comments about our intention to request approval from the Office of Management and Budget (OMB) for a reinstatement of a previously approved information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on information gathered through consumer complaints.

DATES: Written comments should be submitted by June 6, 2022.

ADDRESSES: You may submit comments identified by Docket No. NHTSA-2022-0016 through one of the following methods:

• Electronic Submissions: Go to the Federal eRulemaking Portal at https://www.regulations.gov. Follow the online instructions for submitting comments.

• Fax: (202) 493-2251.

• Mail or Hand Delivery: Docket Management Facility, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to https://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to https://www.regulations.gov or the street address listed above. Follow the online instructions for accessing the dockets via internet.

FOR FURTHER INFORMATION CONTACT: For additional information or access to background documents, contact Randy Reid, Office of Defects Investigation (NEF-100), 212-366-2315, National Highway Traffic Safety Administration, W48-335, Department of Transportation, 1200 New Jersey Avenue SE, Washington, DC 20590, email: randy.reid@dot.gov. Please identify the relevant collection of information by referring to its OMB Control Number (2127-0008).

SUPPLEMENTARY INFORMATION: Under the Paperwork Reduction Act of 1995 (44 U.S.C. 3501 et seq.) (PRA), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Consumer Complaint Information.

OMB Control Number: 2127-0008.

Type of Request: Reinstatement of a previously approved information collection.

Type of Review Requested: Regular.

Requested Expiration Date of Approval: 3 years from date of approval.

Summary of the Collection of Information: Chapter 301 of title 49 of the United States Code authorizes the Secretary of Transportation (NHTSA by delegation) to require manufacturers of motor vehicles and motor vehicle equipment to conduct owner notification and remedy, i.e., a recall campaign, when it has been determined that a safety defect exists in the performance, construction, components, or materials in motor vehicles and motor vehicle equipment. Pursuant to Title 49 of the United States Code of Federal Regulations (CFR) Parts 573 and 577, manufacturers are required to notify NHTSA, as well as motor vehicle and motor vehicle equipment owners, dealers, and distributors, that a determination has been made to remedy a defect through the issuance of a safety recall. Manufacturers often initiate safety recalls voluntarily, while other recalls are influenced by NHTSA investigations or ordered by NHTSA via a court ruling. A manufacturer of each such motor vehicle or item of replacement equipment presented for remedy pursuant to such notification is required to remedy the safety defect at no charge to the owner. The manufacturer shall cause the vehicle to be remedied by any of the following means: (1) By repairing such vehicle or equipment; (2) by replacing such motor vehicle or equipment with an identical or similar product; or (3) by refunding the purchase price less depreciation.

In order to help NHTSA identify safety-related defects, the agency solicits information from vehicle owners. This information is used to identify and evaluate possible safety-related defects and provide the necessary evidence of the existence of such a defect. NHTSA also uses the information to monitor the adequacy of a manufacturer's recall efforts. Consumers of motor vehicles or motor vehicle equipment voluntarily submit complaints through NHTSA's Vehicle Safety Hotline, NHTSA's website (www.nhtsa.gov), or through correspondence.

Description of the Need for the Information and Proposed Use of the Information: NHTSA uses input from consumers to help identify potential safety-related defects that could lead to a safety recall or recall inadequacies. The complaints disclose consumers' allegations of a safety defect that they experienced with their vehicle or vehicle equipment, including defects that resulted in injuries, crashes, property damage, or death. All complaints are converted to a Vehicle Owner Questionnaire (VOQ) format and reviewed by NHTSA investigation/engineer staff. A NHTSA investigator may respond to a consumer submitting a complaint if more information is required. NHTSA staff review complaints/VOQs and determines whether further action by the agency is warranted. The agency has used this information to develop technical foundations of evidence with which to prove to manufacturers and a court that safety-related defects exist which require remedy. The information collection provides valuable information that helps NHTSA identify unreasonable safety risks in specific makes, models, and model years of vehicles and equipment and helps the agency determine when to open an investigation or initiate a recall. In this way, the information collection helps to reduce the number of crashes, fires, injuries, and fatalities that occur on our Nation's highways.

Affected Public: Consumers of motor vehicles and motor vehicle equipment.

Estimated Number of Respondents: 55,433.

There is an average of 58,350 complaints submitted per year (average of 160 complaints submitted each day). Some individuals submit multiple complaints to NHTSA. To estimate the total of unique respondents per year, NHTSA estimates that the number of unique respondents is 95 percent of the number of unique complaints. Therefore, NHTSA estimates that there will be approximately 55,433 respondents each year (58,250 × .95).

Frequency: On-occasion.

The submission of complaints is triggered by the occurrence of a problem with a consumer's vehicle.

Number of Responses: 58,350.

Estimated Total Annual Burden Hours: 9,725 hours.

Respondents have averaged 58,350 consumer complaints per year to NHTSA between January 2018 and December 2020. NHTSA anticipates that a respondent can complete a VOQ in approximately 10 minutes. The consumer is asked to provide his/her name, complete mailing address, product information, failed component information, and incident information, copies of supporting documentation, and his/her signature. NHTSA estimates the total annual burden respondents to be 9,725 hours (58,350 respondents × 10 minutes per VOQ = 9,725 annual hourly burden). To calculate the opportunity cost to respondents associated with the collection, NHTSA used the national average hourly earnings of all employees on private nonfarm payrolls which the Bureau of Labor Statistics lists at $30.44.¹ Therefore, opportunity cost associated with annual burden hours associated with respondents submitting complaints is estimated to be $296,029 (9,725 hours × $30.44 per hour = $296,029 annual opportunity cost burden).

¹ See Table B-3. Average hourly and weekly earnings of all employees on private nonfarm payrolls, June 2021, available at https://www.bls.gov/news.release/empsit.t19.htm (accessed September 16, 2021).

Table 1—Annual Hour Burden Estimates
Annual number of respondents/responses | Estimated time per response (minutes) | Average hourly opportunity cost | Opportunity cost per submission | Total annual burden hours | Total annual opportunity costs
58,350 | 10 | $30.44 | $5.07 | 9,725 | $296,029

Estimated Total Annual Burden Cost: $0.

Participation in this collection is voluntary, and there are no costs to respondents beyond the time spent submitting a complaint.

Public Comments Invited: You are asked to comment on any aspect of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. The agency will summarize and/or include your comments in the request for OMB's clearance of this information collection.

Authority: The Paperwork Reduction Act of 1995; 44 U.S.C. Chapter 35, as amended; and 49 CFR 1.49; and DOT Order 1351.29.

Stephen Ridella,
Director, Office of Defects Investigation, NHTSA.

[FR Doc. 2022-07425 Filed 4-6-22; 8:45 am]

BILLING CODE 4910-59-P